DEPARTMENT OF AGRICULTURE

Animal and Plant Health Inspection Service

[Docket No. APHIS-2011-0013]

Notice of Decision To Authorize the Importation of Fresh Papaya Fruit From Malaysia into the Continental United States

AGENCY: Animal and Plant Health Inspection Service, USDA.

ACTION: Notice.

SUMMARY: We are advising the public of our decision to authorize the importation into the continental United States of fresh papaya fruit from Malaysia. Based on the findings of a pest risk analysis, which we made available to the public for review and comment through a previous notice, we believe that the application of one or more designated phytosanitary measures will be sufficient to mitigate the risks of introducing or disseminating plant pests or noxious weeds via the importation of fresh papaya fruit from Malaysia.

DATES: Effective Date: August 11, 2011.

FOR FURTHER INFORMATION CONTACT: Mr. Phillip B. Grove, Regulatory Coordinator, Regulatory Coordination and Compliance, PPQ, APHIS, 4700 River Road Unit 156, Riverdale, MD 20737; (301) 734-6280.

SUPPLEMENTARY INFORMATION:

Background

Under the regulations in “Subpart—Fruits and Vegetables” (7 CFR 319.56-1 through 319.56-51, referred to below as the regulations), the Animal and Plant Health Inspection Service (APHIS) of the U.S. Department of Agriculture prohibits or restricts the importation of fruits and vegetables into the United States from certain parts of the world to prevent plant pests from being introduced into and spreading within the United States. Under that process, APHIS may publish a notice in the Federal Register announcing the availability of a pest risk analysis that evaluates the risks associated with the importation of a particular fruit or vegetable. Following the close of the 60-day comment period, APHIS may authorize the importation of the fruit or vegetable subject to the risk-mitigation measures identified in the pest risk analysis if: (1) No comments were received on the pest risk analysis; (2) the comments on the pest risk analysis revealed that no changes to the pest risk analysis were necessary; or (3) changes to the pest risk analysis were made in response to public comments, but the changes did not affect the overall conclusions of the analysis and the Administrator's determination of risk.

In accordance with that process, we published a notice ¹ in the Federal Register on March 15, 2011 (76 FR 13972, Docket No. APHIS-2011-0013), in which we announced the availability, for review and comment, of a pest risk analysis evaluating the risks associated with the importation into the continental United States of fresh papaya fruit (Carica papaya) from Malaysia. The pest risk analysis consisted of a pest list identifying pests of quarantine significance that are present in Malaysia and could follow the pathway of importation of papaya into the United States and a risk management document (RMD) identifying phytosanitary measures to be applied to Malaysian papaya to mitigate the pest risk. We solicited comments on the notice for 60 days ending on May 16, 2011. We received one comment by that date, from a State Department of Agriculture. The commenter requested that shipments of papaya not be allowed entry into the commenter's State until the effectiveness of the phytosanitary measures listed in the pest risk analysis had been demonstrated through use on products imported into lower-risk States.

¹ To view the notice and the pest risk analysis, go to http://www.regulations.gov/#!docketDetail;D=APHIS-2011-0013.

We have determined, for the reasons described in the RMD that accompanied the March 2011 notice, that the measures specified in the RMD will effectively mitigate the risk associated with the importation of fresh papaya fruit from Malaysia. The commenter did not provide any evidence suggesting that the mitigations are not effective. Therefore, we are not taking the action requested by the commenter.

Therefore, in accordance with the regulations in § 319.56-4(c)(2)(ii), we are announcing our decision to authorize the importation into the continental United States of fresh papaya fruit from Malaysia subject to the following phytosanitary measures:

• The fruit must be imported into the United States as a commercial consignment.

• The fruit must be irradiated in accordance with the requirements of 7 CFR part 305 with a minimum absorbed dose of 400 Gy.

• If irradiation is applied outside the United States, each consignment of fruit must be precleared by APHIS inspectors in Malaysia. Each shipment must be inspected jointly by APHIS and Malaysian inspectors and accompanied by a phytosanitary certificate issued by the national plant protection organization (NPPO) of Malaysia certifying that the fruit received the required irradiation treatment.

• If irradiation is to be applied upon arrival in the United States, each consignment of fruit must be inspected by Malaysian inspectors prior to departure and accompanied by a phytosanitary certificate issued by the NPPO of Malaysia.

• Each consignment is subject to inspection at the U.S. port of entry.

These conditions will be listed in the Fruits and Vegetables Import Requirements database (available at http://www.aphis.usda.gov/favir). In addition to these specific measures, fresh papaya fruit from Malaysia will be subject to the general requirements listed in § 319.56-3 that are applicable to the importation of all fruits and vegetables. Further, for fruits and vegetables requiring treatment as a condition of entry, the phytosanitary treatment regulations in 7 CFR part 305 contain administrative and procedural requirements that must be observed in connection with the application and certification of specific treatments.

Authority: 7 U.S.C. 450, 7701-7772, and 7781-7786; 21 U.S.C. 136 and 136a; 7 CFR 2.22, 2.80, and 371.3.

Done in Washington, DC, this 5th day of August 2011.
Gregory L. Parham,
Administrator, Animal and Plant Health Inspection Service.

[FR Doc. 2011-20411 Filed 8-10-11; 8:45 am]

BILLING CODE 3410-34-P